DEPARTMENT OF TRANSPORTATION

National Highway Traffic Safety Administration

[U.S. DOT Docket Number NHTSA-2014-0041]

Reports, Forms, and Record Keeping Requirements

AGENCY: National Highway Traffic Safety Administration (NHTSA), Department of Transportation (DOT).

ACTION: Request for public comment on an extension of a currently approved collection.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for Part 541 and Part 542 for which NHTSA intends to seek OMB approval.

DATES: Comments must be received on or before July 7, 2014.

ADDRESSES: Comments must refer to the docket notice numbers cited at the beginning of this notice and be submitted to Docket Management, 1200 New Jersey Avenue SE., West Building Ground Floor, Room W12-140, Washington, DC 20590 by any of the following methods.

• Federal eRulemaking Portal: http://www.regulations.gov. Follow the instructions for submitting comments.

• Mail: Docket Management Facility; U.S. Department of Transportation, 1200 New Jersey Avenue SE., West Building Ground Floor, Room W12-140, Washington, DC 20590.

• Hand Delivery/Courier: 1200 New Jersey Avenue SE., West Building Ground Floor, Room W12-140, Washington, DC 20590, between 9 a.m. and 5 p.m., Monday through Friday, except Federal holidays.

• Fax: (202) 493-2251.

Instructions: For detailed instructions on submitting comments and additional information on the rulemaking process, see the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65FR 19477-78) or you may visit http://Docket Info.dot.gov.

Docket: For access to the docket to read background documents or comments received, go to the street address listed above. The internet access to the docket will be at http://www.regulations.gov. Follow the online instructions for accessing the dockets.

FOR FURTHER INFORMATION CONTACT: Complete copies of each request for collection of information may be obtained at no charge from Deborah Mazyck, NHTSA, 1200 New Jersey Ave. SE., Room W43-443, NVS-131, Washington, DC 20590. Ms. Mazyck's telephone number is (202) 366-4139. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i.) Whether the proposed collection of information is necessary for the proper performance of the functions of the agency, including whether the information will have practical utility;

(ii.) The accuracy of the agency's estimate of the burden of the proposed collection of information, including the validity of the methodology and assumptions used;

(iii.) How to enhance the quality, utility, and clarity of the information to be collected and;

(iv.) How to minimize the burden of the collection of information on those who are to respond, including the use of appropriate automated, electronic, mechanical, or other technological collection techniques or other forms of information technology, e.g. permitting electronic submission of responses.

In compliance with these requirements, NHTSA asks for public comments on the following proposed collections of information:

Title: Consolidated Federal Motor Vehicle Theft Prevention Standard and Procedures for Selecting Lines To Be Covered by the Theft Prevention Standard for 49 CFR Part 541 and 542 (OMB Clearance Number 2127-0539).

OMB Control Number: 2127-0539.

Affected Public: Vehicle manufacturers.

Form Number: The collection of this information uses no standard form.

Requested Expiration Date of Approval: Three years from approval date.

Abstract: For Parts 541 and 542.

Part 541

The Motor Vehicle Information and Cost Savings Act was amended by the Anti-Car Theft Act of 1992 (Pub. L. 102-519). The enacted Theft Act requires specified parts of high-theft vehicle to be marked with vehicle identification numbers. In a final rule published on April 6, 2004, the Federal Motor Vehicle Theft Prevention Standard was extended to include all passenger cars and multipurpose passenger vehicles with a gross vehicle weight rating of 6,000 pounds or less, and to light duty trucks with major parts that are interchangeable with a majority of the covered major parts of multipurpose passenger vehicles. Each major component part must be either labeled or affixed with the VIN and its replacement component part must be marked with the DOT symbol, the letter (R) and the manufacturers' logo. The final rule became effective September 1, 2006. Due to expansion of the Federal Motor Vehicle Theft Prevention Standard (Part 541), all passenger cars, and multipurpose passenger vehicles with a gross vehicle weight rating of 6,000 pounds or less, and light duty trucks with major parts that are interchangeable with a majority of the covered major parts of multipurpose passenger vehicles, are required to be parts marked.

Part 542

Manufacturers of light duty trucks must identify new model introductions that are likely to be high-theft lines as defined in 49 U.S.C. § 33104. In 1984, Congress enacted the Motor Vehicle Theft Law Enforcement Act (the 1984 Theft Act). As a means to prevent the theft of motor vehicles for their parts, the 1984 Theft Act required vehicle manufacturers to mark the major parts of “high-theft” passenger cars and the major replacement parts for those cars. The Anti Car Theft Act of 1992 (ACTA) amended the 1984 Theft Act to extend its provisions to multipurpose passenger vehicles (MPVs) and light duty trucks (LDTs).

The 1984 Theft Act, as amended by ACTA, requires NHTSA to promulgate a theft prevention standard for the designation of high-theft vehicle lines. The specific lines are to be selected by agreement between the manufacturer and the agency. If there is a disagreement of the selection, the statute states that the agency shall select such lines and parts, after notice to the manufacturer and an opportunity for written comment. NHTSA's procedures for selecting high theft vehicle lines are contained in 49 CFR Part 542.

In a final rule published on April 6, 2004, the Federal Motor Vehicle Theft Prevention Standard was extended to include all passenger cars and multipurpose passenger vehicles with a gross vehicle weight rating of 6,000 pounds or less, regardless of whether they were likely to be high or low theft, and to light duty trucks with major parts that are interchangeable with a majority of the covered major parts of multipurpose passenger vehicles. The final rule became effective September 1, 2006.

As a result of this amendment, determination of high theft status is required only for LDTs manufactured on or after that date. There are seven vehicle manufacturers who produce LDTs. Generally, these manufacturers would not introduce more than one new LDT line in any year. NHTSA estimates the maximum number of responses to be two.

Estimated Total Cost Burden and Annual Burden Hour

Part 541

To meet the Theft Prevention Standard, the agency estimates that the time to number and affix 14 labels to each vehicle is approximately 2 minutes. Approximately 8 million vehicles will be covered. NHTSA estimates the hourly burden for labeling 8 million motor vehicles would be 266,666 hours (8 million cars × 2 minutes per car/60 minutes in an hour).

The other option is to stamp the engine and transmission. The agency estimates that the time to stamp both the engine and transmission will take approximately 1 minute. Approximately 8 million vehicles will be covered; the total burden for stamping is estimated to total 133,333 hours (8 million cars × 1 minute per car/60 minutes in an hour). Please note that in this analysis each vehicle would either have its major parts labeled or stamped, but not both. NHTSA will use the highest hour number in the hour burden estimate.

Each manufacturer of vehicles that are required to be parts-marked must submit reports of the target area locations for the labels or stamping. NHTSA estimates that the maximum number of submissions to be 30. The average time to prepare and submit the target area submissions will be 20 hours for each submission at a cost of $60 per hour. The burden hour for submissions will be 600 hours (30 submissions × 20 hours) with an annual estimated cost burden of $36,000.00 ($60.00 × 20 hours × 30 submissions).

The total burden hours equal 266,666 + 600 = 267,266. The estimated total cost associated with the burden hours is approximately $16,035,960 (267,266 × $60.00/hr).

NHTSA assumes that most manufacturers will use the less expensive method of labeling the major parts on vehicles, and not stamp the VINs onto major parts. NHTSA estimates that the average cost to label the 14 parts is $10.24 per vehicle, broken down into $5.33 for material and $4.91 for labor. At present, 8 million motor vehicles annually must have its major parts marked. At present, the total annual fleet costs are estimated at $81,920,000 for label identifiers ($10.24 × 8 million vehicles). NHTSA estimates the total annual cost of meeting Part 541 will be $81,920,000 (lable) + $36,000 (target area submission) = $81,956,000.00 (approximately $82 million).

Part 542

NHTSA estimates that the average hours per submittal are 45, for a total annual burden of 90 hours. NHTSA estimates that the cost associated with the burden hours is $36.00 per hour, for a total cost of approximately $3,234.

NHTSA estimates the total annual cost of meeting Part 542 require no additional costs to the respondents.

Therefore, NHTSA estimates the grand total cost for Part 541 and Part 542 will be $81,956,000.00 (approximately $82 million).

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Claude H. Harris,
Acting Associate Administrator for Rulemaking.

[FR Doc. 2014-10330 Filed 5-5-14; 8:45 am]

BILLING CODE 4910-59-P